DEPARTMENT OF THE TREASURY

Internal Revenue Service

26 CFR Part 1

[REG-124405-03]

RIN 1545-BC13

Optional 10-Year Writeoff of Certain Tax Preferences; Correction

AGENCY: Internal Revenue Service (IRS), Treasury.

ACTION: Correction to notice of proposed rulemaking.

SUMMARY: This document contains corrections to a notice of proposed rulemaking that was published in the Federal Register on July 20, 2004 (69 FR 43367), that provides guidance on the time and manner of making an election under section 59(e) of the Internal Revenue Code.

FOR FURTHER INFORMATION CONTACT: Eric B. Lee (202) 622-3120 (not a toll-free number).

SUPPLEMENTARY INFORMATION:

Background

The notice of proposed rulemaking (REG-124405-03) that is the subject of this correction is under section 59(e) of the Internal Revenue Code.

Need for Correction

As published, REG-124405-03 contains errors that may prove to be misleading and are in need of clarification.

Correction of Publication

Accordingly, the publication of the notice of proposed rulemaking (REG-124405-03), that was the subject of FR Doc. 04-16474, is corrected as follows:

1. On page 43368, column 2, in the preamble under the paragraph heading “Explanation of Provisions”, third paragraph, line 18, the language, “expenditures subject to the section 59(e)” is corrected to read “Expenditures subject to the section 59(e) election”.

§ 1.59-1 [Corrected]

2. On page 43369, column 1, § 1.59-1(b)(1), line 8, the language, “the section 59(e) begins. A taxpayer” is corrected to read “the section 59(e) election begins. A taxpayer”.

3. On page 43369, column 1 § 1.59-1(b)(1), line 19, the language, “section 59(e) begins. Additionally, the” is corrected to read “section 59(e) election begins. Additionally, the”.

Cynthia E. Grigsby,
Acting Chief, Publications and Regulations Branch, Legal Processing Division, Associate Chief Counsel (Procedure and Administration).

[FR Doc. 04-19947 Filed 8-31-04; 8:45 am]

BILLING CODE 4830-01-P